Title 3—

The President

Proclamation 7458 of August 24, 2001

Women's Equality Day, 2001

By the President of the United States of America

A Proclamation

Women's Equality Day marks the anniversary of women's enfranchisement and a pivotal victory for women's rights. Our Nation recognized a woman's right to vote with the passage of the 19th Amendment in 1920, but the roots of the women's rights movement go back to at least 80 years earlier.

In 1840, Elizabeth Cady Stanton met Lucretia Mott at the World's Anti-Slavery Convention in London. They, along with the other women there, expected to join in the anti-slavery proceedings, but male delegates refused to allow them to participate. Thus rebuffed, Mott and Stanton began a journey that would lead to the 1848 Seneca Falls Convention. There, the Declaration of Rights and Sentiments called for women's equality, including the right to vote and to take part in our Nation's great moral debates.

Nearly all women's rights advocates also fought for the abolition of slavery. One hundred and fifty years ago, anti-slavery suffragette Sojourner Truth gave a powerful address expounding on the strength of women. Her impassioned call for women to actively participate in social justice movements became a legendary link between abolition and suffrage. That same year, Susan B. Anthony met Elizabeth Cady Stanton, and they later joined Harriet Tubman, Mary Ann Shad Cary, Lucy Stone, and other abolitionists to pursue the goal of women's suffrage. Many 19th Century abolitionist suffragettes did not live to see the fruit of their work for women's enfranchisement, but their efforts led the way for women to fight for and win recognition of their rights as equal participants in our Republic.

Tremendous advancements have been made in the fight for equality. But we must remain diligent in enforcing our Nation's laws. And we still have work to do in this area.

Today, thousands of people, mainly women and children, are trafficked into the United States each year and forced to work in the sex industry, sweatshops, field labor, and domestic servitude. Beyond these vile acts, workplace discrimination and targeted violence continue to take place, despite their rejection by our communities and legal system.

Our efforts to ensure women equal rights must include the protection of women from violence and equal access to justice. This is particularly vital for women who face geographic, cultural, and other barriers to social justice services. Women victimized by crime should receive equitable and compassionate care, including access to advocacy, emergency shelter, law enforcement protection, and legal aid. That is why my 2002 budget requests increased funding for Federal initiatives to combat violence against women and to continue the guarantees of basic civil rights and liberties for women.

As we remember the well-known champions of women's equality, we also honor the millions of women whose private efforts and personal ideals continue to sustain and improve this land. On Women's Equality Day, I call upon all Americans to defend the freedoms gained by those who came before us and to continue to expand our shared vision of social justice and equality.

NOW, THEREFORE, I, GEORGE W. BUSH, President of the United States of America, by virtue of the authority vested in me by the Constitution and laws of the United States, do hereby proclaim August 26, 2001, as Women's Equality Day. I call upon the people of the United States to observe this day with appropriate programs and activities.

IN WITNESS WHEREOF, I have hereunto set my hand this twenty-fourth day of August, in the year of our Lord two thousand one, and of the Independence of the United States of America the two hundred and twenty-sixth.

B

[FR Doc. 01-21962

Filed 8-28-01; 8:45 am]

Billing code 3195-01-P